DEPARTMENT OF STATE

[Public Notice 8041]

Advisory Committee Meeting

ACTION: Notice of meeting.

SUMMARY: Pursuant to the provisions of the Federal Advisory Committee Act (FACA), the Advisory Committee on the Secretary of State's Strategic Dialogue with Civil Society will convene in Washington, DC on October 24, 2012. The Committee provides advice on the formulation of U.S. policies, proposals, and strategies for engagement with, and protection of, civil society worldwide. The objective of this meeting is to review the progress of the Committee's five subcommittees. The meeting is open to public participation through live stream at http://www.state.gov/s/sacsed/c47725.htm.

DATES: The meeting will be held on October 24, 2012, from 10 a.m. to 11:30 a.m.

ADDRESSES: The meeting will be held at the U.S. Department of State, 2201 C Street NW., Washington, DC.

Written comments may be submitted to Madeleine Ioannou via email to civilsociety@state.gov or facsimile to (202) 736-7880. All comments, including names and addresses when provided, are placed in the record and are available for inspection and copying. The public may inspect comments received at the U.S. Department of State, 2201 C Street NW., Room 1317, Washington, DC 20520. Please call ahead to (202) 736-7824 to facilitate entry into the building.

FOR FURTHER INFORMATION CONTACT: Madeleine Ioannou, Committee Executive Secretary, U.S. Department of State, 2201 C Street NW., Room 1317, Washington, DC 20520; (202) 736-7308; civilsociety@state.gov.

SUPPLEMENTARY INFORMATION: The meeting is open to the public and will be streamed live at: http://www.state.gov/s/sacsed/c47725.htm. Agenda items to be covered include: (1) Introductions, (2) Presentations by the Chairs of the Subcommittees, (3) Discussion of any Public Submissions, (4) General Discussion, (5) Adjournment. Anyone who would like to bring related matters to the attention of the Committee may file written statements with the Committee staff by sending an email to civilsociety@state.gov. A member of the public requesting reasonable accommodation should contact the officer listed above with this request, prior to October 17th. Requests received after that date will be considered, but might not be possible to fulfill.

Dated: September 19, 2012.
Madeleine Ioannou,
Office of the Senior Advisor for Civil Society and Emerging Democracies, U.S. Department of State.

[FR Doc. 2012-23609 Filed 9-24-12; 8:45 am]

BILLING CODE 4710-10-P